DEPARTMENT OF THE INTERIOR

Bureau of Land Management

[LLNVS00530 L13300000.EP0000 241A; 13-08807; MO# 4500048244; TAS: 14X1109]

Notice of Availability of the Final Environmental Impact Statement and Record of Decision for the Proposed Sloan Hills Competitive Mineral Material Sales, Clark County, NV

AGENCY: Bureau of Land Management, Interior.

ACTION: Notice of availability.

SUMMARY: In accordance with the National Environmental Policy Act of 1969 (NEPA), as amended, and the Federal Land Policy and Management Act of 1976, as amended, the Bureau of Land Management (BLM) has prepared a Final Environmental Impact Statement (EIS) and a Record of Decision (ROD) for the Proposed Sloan Hills Mineral Material Sales, Clark County, Nevada, and by this notice is announcing their availability.

DATES: The BLM will not act on a final decision on the proposal for a minimum of 30 days of the date that the Environmental Protection Agency publishes its notice in the Federal Register.

ADDRESSES: Copies of the Final EIS and ROD are available for public inspection at the following locations in Nevada:

• BLM Nevada State Office, 1340 Financial Boulevard, Reno;

• BLM Southern Nevada District Office, 4701 North Torrey Pines Drive, Las Vegas;

• Paseo Verde Library, 280 South Green Valley Parkway, Henderson;

• James I Gibson Library, 100 West Lake Mead Parkway, Henderson; and

• Enterprise Library, 25 East Shelbourne Avenue, Las Vegas.

Interested persons may also review the Final EIS and ROD at http://www.blm.gov/nv/st/en/fo/lvfo.html or request a printed copy or a compact disc from the BLM Las Vegas Field Office, 4701 N. Torrey Pines Drive, Las Vegas, NV 89130, phone: 702-515-5000, or email to: sloanhillseis@blm.gov.

FOR FURTHER INFORMATION CONTACT: Shonna Dooman, Las Vegas Field Office Assistant Field Manager, telephone: 702-515-5174; address Las Vegas Field Office, 4701 N. Torrey Pines Drive, Las Vegas, NV 89130; or email: sloanhillseis@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: After environmental analysis, consideration of public comments, and application of pertinent Federal laws, it is the decision of the BLM to not authorize the competitive sale of mineral materials in the Sloan Hills area in southern Las Vegas Valley, Nevada. The selected No Action Alternative reflects the BLM's intent to continue the current management of public lands within the Sloan Hills. The BLM prepared a Final EIS and ROD to fulfill responsibilities under the Act of July 31, 1947, as amended (30 U.S.C. 601 et seq.), commonly referred to as the Materials Act, and the Federal Land Policy and Management Act of 1976 (43 U.S.C. 1701 et seq.). The purpose of this analysis was for the BLM to respond to applications from two mining companies (CEMEX and Service Rock Products Corporation) to mine and process limestone and dolomite minerals in the Sloan Hills area of southern Nevada. Two settlement agreements obligate the BLM to process the mineral material sales applications submitted by CEMEX and Service Rock Products Corporation. The BLM's decision to select the No Action Alternative is in conformance with the Las Vegas Resource Management Plan/Final Environmental Impact Statement, approved on October 5, 1998. The BLM's decision is consistent with the Materials Act and the Federal Land Policy and Management Act.

Alternatives analyzed in the Final EIS include: Alternative 1, at 640 acres, includes the sale of mineral materials in the North Site and the South Site to two mining companies that would operate independently and results in a single open pit mine; Alternative 2, at 320 acres, includes the sale of mineral materials in the North Site only; Alternative 3, at 320 acres, includes the sale of mineral materials in the South Site only; Alternative 4, at 640 acres, includes the sale of mineral materials in both the North Site and the South Site to a single mining company and Alternative 5, the No Action Alternative.

On August 5, 2011, a Notice of Availability for the Draft EIS for this project was published in the Federal Register (76 FR 47607). The BLM held three public meetings and accepted public comments for 120 days through email, fax, mail, and public meetings. A total of 82 comments from individuals and 26 comments from governmental entities were received. Additionally, the BLM received one petition signed by 3,420 individuals. The majority of the comments received addressed impacts on air quality, water use, noise and vibration, visual resources, transportation and traffic, socioeconomics, and special management areas. Cooperating agencies in the development of the EIS include: Las Vegas Valley Water District, Nevada Department of Wildlife, Clark County Department of Air Quality, Clark County Department of Aviation, and City of Henderson.

Comments received from the public on the Draft EIS and internal BLM review were considered and incorporated as appropriate into the Final EIS following the standards of 40 CFR 1503.4(c).

Filing an Appeal:

The decision by the BLM to select the No Action Alternative as the agency's Preferred Alternative is appealable subject to 43 CFR part 4, subpart E—Special Rules Applicable to Public Land Hearings and Appeals, and 43 CFR 3601.80. Any party adversely affected by this decision may appeal within the 30-day timeframe by filing an appeal with the BLM Las Vegas Field Manager, 4701 N. Torrey Pines Drive, Las Vegas, NV 89130, or fax: 702-515-5023. A copy of the notice of appeal, and statement of reasons and all pertinent documents must be served on each adverse party named in the decision from which the appeal is taken and on the Office of the Regional Solicitor, U.S. Department of the Interior, Pacific Southwest Region, 2800 Cottage Way, Room E-1712, Sacramento, CA 95826, no later than 15 days after filing documents with the Las Vegas Field Manager.

To file a petition for stay of the ROD pursuant to 43 CFR 4.21 while an appeal is pending before the Interior Board of Land Appeals (IBLA), the petition for stay must accompany the Notice of Appeal (see 43 CFR 4.21;43 CFR 3601.80). A petition for stay must show sufficient justification based on the standards listed in 43 CFR 4.21(b). If a petition for stay is submitted with the notice of appeal, a copy of the notice of appeal and petition for stay must be served on the IBLA at the same time it is filed with the Las Vegas Field Manager. Persons interested in filing an appeal are encouraged to consult the cited Federal regulations for additional appeal requirements.

Authority: 40 CFR 1506.6 and 1506.10.

Robert B. Ross, Jr.,
Las Vegas Field Manager.

[FR Doc. 2013-09662 Filed 4-25-13; 8:45 am]

BILLING CODE 4310-HC-P